DEPARTMENT OF THE INTERIOR

Fish and Wildlife Service

[FWS-R3-EC-2015-N157; FVHC98120300940-XXX-FF03E16000]

Draft Restoration Plan and Programmatic Environmental Impact Statement for Restoration Resulting From the Kalamazoo River Natural Resource Damage Assessment

AGENCY: Fish and Wildlife Service, Interior.

ACTION: Notice of availability; request for comments.

SUMMARY: The U.S. Fish and Wildlife Service (USFWS), the National Oceanic and Atmospheric Administration (NOAA), the Michigan Department of Environmental Quality, the Michigan Department of Natural Resources, and the Michigan Attorney General, collectively acting as Trustees for natural resources, announce the availability of the Draft Restoration Plan and Programmatic Environmental Impact Statement for Restoration Resulting from the Kalamazoo River Natural Resource Damage Assessment. Publication of this notice begins the public comment period for this Draft Restoration Plan and Programmatic Environmental Impact Statement (Draft RP/PEIS). The purpose of the Draft RP/PEIS is to present the Trustees' proposed approach to restoration to compensate the public for losses to natural resources resulting from the release of polychlorinated biphenyls (PCBs) and to evaluate, in compliance with the National Environmental Policy Act (NEPA), the potential direct, indirect, and cumulative impacts of implementing the alternative programmatic approaches to restoration in the Kalamazoo River watershed.

DATES: Written comments must be received by October 29, 2015.

ADDRESSES: Submitting Comments: Written comments for the Trustees to consider should be sent to Lisa Williams, U.S. Fish and Wildlife Service, East Lansing Field Office, 2651 Coolidge Road, East Lansing, MI 48823. Comments may also be submitted electronically to kzoorivernrda@fws.gov, with “Kalamazoo River RP/PEIS” in the subject line. For more information, see Public Comments under SUPPLEMENTARY INFORMATION.

Viewing the Administrative Record: Contact Judith Alfano, at (517) 373-7402 or alfanoj@michigan.gov; selected documents are also available at http://www.fws.gov/midwest/es/ec/nrda/KalamazooRiver.

Viewing EPA's Comments on the PEIS: For how to view comments on the PEIS from the Environmental Protection Agency (EPA), or for information on EPA's role in the EIS process, see EPA's Role in the EIS Process under SUPPLEMENTARY INFORMATION.

FOR FURTHER INFORMATION CONTACT: Lisa Williams, USFWS, by email at lisa_williams@fws.gov or by phone at (517) 351-8324, or Julie Sims, NOAA Restoration Center, by email at julie.sims@noaa.gov or by phone at (734) 741-2385.

SUPPLEMENTARY INFORMATION: The U.S. Fish and Wildlife Service (USFWS) and the National Oceanic and Atmospheric Administration (NOAA), the Michigan Department of Environmental Quality (MDEQ), the Michigan Department of Natural Resources, and the Michigan Attorney General, collectively acting as Trustees for natural resources, have prepared this Draft Restoration Plan and Programmatic Environmental Impact Statement (Draft RP/PEIS) for restoration in the Kalamazoo River watershed pursuant to both CERCLA NRDA regulations and the National Environmental Policy Act of 1969, as amended (42 U.S.C. 4321-4347 et seq.; NEPA), and its implementing regulations in the Code of Federal Regulations (CFR) at 40 CFR parts 1500-1508. NEPA requires Federal agencies to conduct environmental reviews of proposed actions to consider the potential impacts on the environment.

In the Draft RP/PEIS, the Trustees describe restoration projects that could compensate for injuries to natural resources from polychlorinated biphenyls (PCBs) released at and from the Allied Paper, Inc./Portage Creek/Kalamazoo River Superfund Site (Superfund Site). These include both general types of restoration projects as well as two specific projects to restore aquatic connectivity on the Kalamazoo River by removing dams in and near Otsego, Michigan. The public is invited to provide comments to the Trustees on the Draft RP/PEIS, including the proposed restoration projects and techniques, the programmatic restoration alternatives, and the potential impacts of the alternatives on the environment.

Industrial activities in the Kalamazoo area have released PCBs into the environment. Recycling of carbonless copy paper at several area paper mills was the primary source of PCB release. Waste from the recycling of such paper conducted at Kalamazoo-area paper mills also contained PCBs, and the waste was disposed of by several methods that resulted in releases of PCBs into the environment. These PCBs have contaminated sediments, the water column, and biota in and adjacent to downstream sections of Portage Creek, the Kalamazoo River, and Lake Michigan.

Based on the risks that PCBs pose to the environment and to human health, the U.S. Environmental Protection Agency (EPA) listed the Allied Paper, Inc./Portage Creek/Kalamazoo River Superfund Site on the National Priorities List on August 30, 1990. PCBs are listed as hazardous substances under CERCLA. EPA and MDEQ currently describe the site being addressed by the Superfund remedial investigation as including: (1) Five disposal areas and six paper mill properties; (2) a 3-mile stretch of Portage Creek from Cork Street in the City of Kalamazoo to where the creek meets the Kalamazoo River; and (3) an approximately 80-mile stretch of the Kalamazoo River, from Morrow Dam to Lake Michigan, with adjacent floodplains, wetlands, and in-stream sediments.

As defined in the Stage 1 Assessment Report (MDEQ et al. 2005; available at http://www.fws.gov/midwest/es/ec/nrda/KalamazooRiver), the Trustees are using the term Kalamazoo River Environment (KRE) to represent the entire natural resource damage assessment area. The KRE encompasses the area being addressed by the Superfund remedial investigations for the site's operable units, along with any area where hazardous substances released at or from the Superfund site have come to be located, and areas where natural resources or the services they provide may have been affected by the site-related hazardous substances releases (MDEQ et al. 2005).

The Trustees expect to have opportunities to settle natural resource damage claims for the KRE with willing parties. The Draft RP/PEIS will provide an ecological framework, with public input, to maximize the benefits of specific restoration projects to the affected resources in the KRE that might be included in or funded by future settlements or past bankruptcy settlements. The Draft RP/PEIS will provide criteria and guidance for Trustees to use in selecting feasible restoration projects.

In compliance with 40 CFR part 1505 et seq., the Trustees will include in the NRDA Administrative Record (Record) documents that the Trustees rely upon during the development of the Draft RP/PEIS. The hard copy Record is on file at MDEQ (contact Judith Alfano; see FOR FURTHER INFORMATION CONTACT).

CERCLA

Under the Comprehensive Environmental Response, Compensation and Liability Act (CERCLA; 42 U.S.C. 9601 et seq.), parties responsible for releasing hazardous substances into the environment are liable both for the costs of responding to the release (by cleaning up, containing, or otherwise remediating the release) and for damages arising from injuries to publicly owned or managed natural resources resulting from the release. CERCLA's Natural Resource Damage Assessment (NRDA) regulations (43 CFR 11) describe the process of assessing the nature and extent of the resulting injury, destruction, or loss of natural resources and the services they provide. Carrying out of the NRDA process also includes determining the compensation required to make the public whole for such injuries, destruction, or loss. CERCLA authorizes certain Federal and State agencies and Indian tribes to act on behalf of the public as Trustees for affected natural resources. Under CERCLA, these agencies and tribes are authorized to assess natural resource injuries and to seek compensation, referred to as damages, from responsible parties, including the costs of performing the damage assessment. The Trustees are required to use recovered damages for the following purposes only: To restore, replace, or acquire the equivalent of the injured or lost resources and services.

EPA's Role in the EIS Process

In addition to this Federal Register notice, EPA is publishing a notice announcing the PEIS, as required under section 309 of the Clean Air Act (42 U.S.C. 7401 et seq.; CAA).

The EPA is charged under the CAA to review all Federal agencies' EISs and to comment on the adequacy and the acceptability of the environmental impacts of proposed actions in the EISs. EPA also serves as the repository (EIS database) for EISs prepared by Federal agencies and provides notice of their availability in the Federal Register. The EIS database provides information about EISs prepared by Federal agencies, as well as EPA's comments concerning the EISs. All EISs are filed with EPA, which publishes a notice of availability on Fridays in the Federal Register.

For more information, see http://www.epa.gov/compliance/nepa/eisdata.html. You may search for EPA comments on EISs, along with EISs themselves, at https://cdxnodengn.epa.gov/cdx-enepa-public/action/eis/search.

Public Comments

Comments are specifically requested regarding the alternatives, proposed restoration techniques and projects, scope of analysis, and assessment of impacts. Please see the ADDRESSES section for how to submit information.

Before including your address, phone number, email address, or other personal identifying information in your comment, you should be aware that your entire comment—including your personal identifying information—may be made publicly available at any time. While you can ask us in your comment to withhold your personal identifying information from public review, we cannot guarantee that we will be able to do so.

Dated: August 24, 2015.
Charles Wooley,
Acting Regional Director, Midwest Region, U.S. Fish and Wildlife Service.

[FR Doc. 2015-23016 Filed 9-11-15; 8:45 am]

BILLING CODE 4310-55-P